Title 3—

The President

Proclamation 11008 of February 3, 2026

National Black History Month, 2026

By the President of the United States of America

A Proclamation

This year, we celebrate the most significant milestone in our Nation's history: 250 glorious years of American independence. From the very beginning, our country has been blessed with countless black American heroes. For more than two and a half centuries, these legends have made timeless contributions to our government, laws, military, economy, workforce, and culture. With their tremendous legacy in mind, as President, I proclaim that “black history” is not distinct from American history—rather, the history of black Americans is an indispensable chapter in our grand American story.

America's founding was rooted in the belief that every man, woman, and child is created equal, “endowed by their Creator with certain unalienable Rights,” and free to live lives in “pursuit of Happiness.” For 250 years, these principles have inspired and informed the independent, bold, and pioneering American spirit. It is our bedrock belief in equality that drove black American icons to help fulfill the promise of these principles. And it is our unwavering commitment to liberty that continues to sustain our Nation's greatness.

This month, we are also reminded that the source of our strength is rooted not in our differences, but in our shared commitment to freedom under one beautiful American flag. For decades, the progressive movement and far-left politicians have sought to needlessly divide our citizens on the basis of race, painting a toxic and distorted and disfigured vision of our history, heritage, and heroes. This month, however, we do not celebrate our differences. Instead, we celebrate the contributions of black Americans to our national greatness and their enduring commitment to the American principles of liberty, justice, and equality—the principles that wrested the Western Hemisphere from monarchies and empires, ended slavery, saved Europe, put a man on the moon, and built the freest, most just, and most prosperous society ever known to mankind.

Since the great Prince Estabrook became the first black man to shed his blood for our emerging Nation at the Battle of Lexington more than 250 years ago, heroic black Americans have valiantly fought for our liberty on the fields of battle, in the pews of our churches, and in our shops, restaurants, and businesses. Across every generation, legendary black Americans have fiercely defended the values set forth in our Declaration of Independence and helped to make our Republic the greatest country in the history of the world. From the unflinching faith of Lemuel Haynes, the soaring prose of Phillis Wheatley, and the unmatched resolve of Harriet Tubman to the towering intellect of Frederick Douglass, the fearlessness of Jesse Owens, and the brilliance of Katherine Johnson and Thomas Sowell, countless black patriots have stood as the vanguards of our freedom—and are among some of the most heroic Americans to have ever lived.

As President, I am fighting to restore the Nation that these titans helped build, and to make America greater than ever before. In their honor, and to commemorate 250 years of American liberty, I have authorized the construction of the National Garden of American Heroes, a new statuary park honoring our greatest Americans, including black icons like Booker T. Washington, Jackie Robinson, Aretha Franklin, Coretta Scott King, Muhammad Ali, and many others. Last spring, I also signed an Executive Order to promote excellence and innovation at Historically Black Colleges and Universities so the next generation of leaders in the black community will learn from these great American examples. And I am fighting every day to make our neighborhoods safer, groceries more affordable, and the American Dream more attainable for all Americans.

My Administration will never stop working to ensure that our country and every future generation of American citizens remain guided by the same truth: We are one Nation, under God, indivisible, with liberty and justice for all.

NOW, THEREFORE, I, DONALD J. TRUMP, President of the United States of America, by virtue of the authority vested in me by the Constitution and the laws of the United States, do hereby proclaim February 2026 as National Black History Month. I call upon public officials, educators, librarians, and all the people of the United States to observe this month with appropriate programs, ceremonies, and activities.

IN WITNESS WHEREOF, I have hereunto set my hand this third day of February, in the year of our Lord two thousand twenty-six, and of the Independence of the United States of America the two hundred and fiftieth.

[FR Doc. 2026-02496

Filed 2-5-26; 11:15 am]

Billing code 3395-F4-P